DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of six newly-designated persons whose property and interests in property are blocked pursuant to Executive Order 12978 of October 21, 1995, “Blocking Assets and Prohibiting Transactions with Significant Narcotics Traffickers.” In addition, OFAC is publishing a change to the listing of a person previously designated pursuant to Executive Order 12978.

DATES: The designation by the Secretary of the Treasury of the six persons identified in this notice pursuant to Executive Order 12978 is effective on August 29, 2006. In addition, the change to the listing of a person previously designated pursuant to Executive Order 12978 is also effective on August 29, 2006.

FOR FURTHER INFORMATION CONTACT: Assistant Director, Compliance Outreach & Implementation,Office of Foreign Assets Control,Department of the Treasury,Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, personality inter alia, of the International Emergency Economic Powers Act (50 U.S.C. 1701-1706) (“IEEPA”), issued Executive Order 12978 (60 FR 54579, October 24, 1995) (the “Order”), effective at 12:01 a.m. eastern daylight time on October 22, 1995. In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On August 29, 2006, the Secretary of the Treasury, in consultation with the Attorney General and Secretary of State, as well as the Secretary of Homeland Security, designated six persons whose property and interests in property are blocked pursuant to the Order.

The List of Additional Designees Follows

1. DISDROGAS LTDA. (f.k.a. RAMIREZ Y CIA. LTDA.); Carrera 38 No. 13-138 Acopi, Yumbo, Valle, Colombia; Calle 15 No. 11-34, Pasto, Narino, Colombia; Carrera 1D Bis. No. 15-55, Neiva, Huila, Colombia; Calle 39 No. 17-42, Neiva, Huila, Colombia; Apartado Aereo 30530, Cali, Colombia; NIT # 800058576-2 (Colombia); (ENTITY) [SDNT]

2. RAMIREZ ABADIA Y CIA. S.C.S., Avenida Estacion No. 5BN-73 of. 207, Cali, Colombia; NIT # 800117676-4 (Colombia); (ENTITY) [SDNT]

3. ABADIA BASTIDAS, Carmen Alicia (a.k.a. ABADIA DE RAMIREZ, Carmen Alicia); c/o DISDROGAS LTDA., Yumbo, Valle, Colombia; c/o RAMIREZ ABADIA Y CIA. S.C.S., Cali, Colombia; Calle 9 No. 39-65, Cali, Colombia; DOB 15 Jul 1934; POB Palmira, Valle, Colombia; Cedula No. 29021074 (Colombia); (INDIVIDUAL) [SDNT]

4. OTALORA RESTREPO, Edgar Marino, c/o DISDROGAS LTDA., Yumbo, Valle, Colombia; Cedula No. 5198602 (Colombia); (INDIVIDUAL) [SDNT]

5. RAMIREZ PONCE, Omar, c/o DISDROGAS LTDA., Yumbo, Valle, Colombia; c/o RAMIREZ ABADIA Y CIA. S.C.S., Cali, Colombia; Carrera 38 No. 13-138, Cali, Colombia; DOB 01 Jan 1940; POB Cali, Colombia; Cedula No. 6064636 (Colombia); Passport 6064636 (Colombia); (INDIVIDUAL) [SDNT]

6. SALINAS CUEVAS, Jorge Rodrigo, c/o DISDROGAS LTDA., Yumbo, Valle, Colombia; Calle 13B No. 37-86 apt. 201-5, Cali, Colombia; DOB 10 Dec 1945; POB Neiva, Huila, Colombia; Alt. POB Cali, Colombia; Cedula No. 14930332 (Colombia); Passport AG684621 (Colombia); (INDIVIDUAL) [SDNT]

In addition, OFAC has made a change to the following listing of a person previously designated pursuant to the Order:

RAMIREZ ABADIA, Juan Carlos, Calle 6A No. 34-65, Cali, Colombia; DOB 16 Feb 63; Cedula No. 16684736 (Colombia); Passport AD127327 (Colombia) (individual) [SDNT]

The listing now appears as the following

RAMIREZ ABADIA, Juan Carlos, Calle 6A No. 34-65, Cali, Colombia; c/o DISDROGAS LTDA., Yumbo, Valle, Colombia; c/o RAMIREZ ABADIA Y CIA. S.C.S., Cali, Colombia; DOB 16 Feb 63; Cedula No. 16684736 (Colombia); Passport AD127327 (Colombia) (individual) [SDNT]

Dated: August 29, 2006.
Adam J. Szubin,
Acting Director, Office of Foreign Assets Control.

[FR Doc. E6-14595 Filed 9-1-06; 8:45 am]

BILLING CODE 4811-37-P